NUCLEAR REGULATORY COMMISSION

Sunshine Act Meeting Notice

AGENCY HOLDING THE MEETING: Nuclear Regulatory Commission.

DATE: Weeks of June 9, 16, 23, 30, July 7, 14, 2003.

PLACE: Commissioners' Conference Room, 11555 Rockville Pike, Rockville, Maryland.

STATUS: Public and Closed.

MATTERS TO BE CONSIDERED:

Week of June 9, 2003

Wednesday, June 11, 2003

10:30 a.m. All Employees Meeting (Public Meeting).

1:30 p.m. All Employees Meeting (Public Meeting).

Friday, June 13, 2003

8:30 a.m. Discussion of Management Issues (Closed—Ex. 2).

Week of June 16, 2003—Tentative

There are no meetings scheduled for the Week of June 16, 2003

Week of June 23, 2003—Tentative

There are no meetings scheduled for the Week of June 23, 2003

Week of June 30, 2003—Tentative

Tuesday, July 1, 2003

10 a.m. Briefing on Status of Office of Nuclear Security and Incident Response (NSIR) Programs, Performance, and Plans (Closed—Ex. 1)

Week of July 7, 2003—Tentative

There are no meetings scheduled for the Week of July 7, 2003

Week of July 14, 2003—Tentative

There are no meetings scheduled for the Week of July 14, 2003

The schedule for Commission meetings is subject to change on short notice. To verify the status of meetings call (recording)—(301) 415-1292. Contact person for more information; David Louis Gamberoni (301) 415-1651.

Additional Information: By a vote of 4-0 on May 15, the Commission determined pursuant to U.S.C. 552b(e) and § 9.107(a) of the Commission's rules that “Affirmation of Pacific Gas & Electric Co. (Diablo Canyon Power Plant Independent Spent Fuel Storage Installation); Intervenor's Request for Suspension of Proceeding Pending Decision on Rulemaking Petition” be held on May 16, and on less than one week's notice to the public.

The NRC Commission Meeting Schedule can be found on the Internet at: http://www.nrc.gov/what-we-do/policy-making/schedule.html.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: June 5, 2003.
D. L. Gamberoni,
Technical Coordinator, Office of the Secretary.

[FR Doc. 03-14687 Filed 6-6-03; 10:12 am]

BILLING CODE 7590-01-M